DEPARTMENT OF TRANSPORTATION

Office of the Secretary

Applications of 21 Air, LLC for Certificate Authority

AGENCY: Department of Transportation.

ACTION: Notice of Order to Show Cause (Order 2016-7-5) Dockets DOT-OST-2015-0043 and DOT-OST-2015-0044.

SUMMARY: The Department of Transportation is directing all interested persons to show cause why it should not issue orders finding 21 Air, LLC, fit, willing, and able, and awarding it certificates of public convenience and necessity authorizing it to engage in interstate and foreign charter air transportation of property and mail.

DATES: Persons wishing to file objections should do so no later than July 25, 2016

ADDRESSES: Objections and answers to objections should be filed in Dockets DOT-OST-2015-0043 and DOT-OST-2015-0044 and addressed to the Department of Transportation, Docket Operations, 1200 New Jersey Avenue SE., West Building Ground Floor, Room W12-140, Washington, DC and should be served upon the parties listed in Attachment A to the order.

FOR FURTHER INFORMATION CONTACT: Damon D. Walker, Air Carrier Fitness Division, (X-56, Office W86-469), U.S. Department of Transportation, 1200 New Jersey Avenue SE., Washington, DC 20590, (202) 366-9721.

Dated: July 8, 2016.
Jenny T. Rosenberg,
Acting Assistant Secretary for Aviation and International Affairs.

[FR Doc. 2016-16753 Filed 7-14-16; 8:45 am]

BILLING CODE P